TENNESSEE VALLEY AUTHORITY

Moore County Solar Project

AGENCY: Tennessee Valley Authority.

ACTION: Notice of Intent; request for comments.

SUMMARY: The Tennessee Valley Authority (TVA) intends to prepare an environmental impact statement (EIS) or environmental assessment (EA) for the purchase of electricity generated by the proposed Moore County Solar Project in Moore County, Tennessee. The EIS or EA will assess the potential environmental effects of constructing, operating, and maintaining the proposed 200-megawatt (MW) alternating current (AC) solar facility. The proposed 200 MW AC solar facility would occupy approximately 2,000 acres of the roughly 3,300-acre Project Study Area. Public comments are invited concerning both the scope of the environmental review and environmental issues that should be addressed in the EIS or EA. TVA is also requesting data, information, and analysis relevant to the proposed action from the public; affected federal, state, tribal, and local governments, agencies, and offices; the scientific community; industry; or any other interested party.

DATES: To ensure consideration, comments must be postmarked, emailed, or submitted online no later than June 4, 2021.

ADDRESSES: Written comments should be sent to Ashley Pilakowski, NEPA Specialist, Tennessee Valley Authority, 400 West Summit Hill Drive, WT 11B, Knoxville, Tennessee 37902. Comments may be submitted online at: www.tva.gov/nepa, or by email to nepa@tva.gov. Please note that, due to current TVA requirements for many employees to work remotely, comments submitted electronically are encouraged.

FOR FURTHER INFORMATION CONTACT: Ashley Pilakowski by email at aapilakowski@tva.gov, by phone at (865) 632-2256, or by mail at the address above.

SUPPLEMENTARY INFORMATION: This notice is provided in accordance with the Council on Environmental Quality's regulations 40 CFR parts 1500 to 1508 (84 FR 43304, July 16, 2020) and TVA's procedures for implementing the National Environmental Policy Act (NEPA) at 18 CFR part 1318, as well as Section 106 of the National Historic Preservation Act (NHPA) and its implementing regulations (36 CFR part 800). Following site investigations and a preliminary determination of the anticipated environmental impacts, TVA will decide whether the proposed action will be the subject of an EIS or EA.

TVA is a federal agency and instrumentality of the United States, created in 1933 by an act of Congress to foster the social and economic well-being of the residents of the Tennessee Valley region. As part of its diversified energy strategy, TVA produces or obtains electricity from a diverse portfolio of energy sources, including solar, hydroelectric, wind, biomass, fossil fuel, and nuclear.

Background

In June 2019, TVA completed the final 2019 Integrated Resource Plan (IRP) and associated EIS. The IRP is a comprehensive study of how TVA will meet the demand for electricity in its service territory over the next 20 years. The 2019 IRP recommends solar expansion and anticipates growth in all scenarios analyzed, with most scenarios anticipating 5,000-8,000 MW and one anticipating up to 14,000 MW by 2038. Customer demand for cleaner energy prompted TVA to release a Request for Proposal (RFP) for renewable energy resources (2020 Renewable RFP). The Moore County Solar Project power purchase agreement (PPA) that resulted from this RFP will help TVA meet immediate needs for additional renewable generating capacity in response to customer demands and fulfill the renewable energy goals established in the 2019 IRP.

TVA has entered into a PPA with Silicon Ranch Corporation to purchase 200 MW AC of power generated by the proposed Moore County Solar Project, hereafter referred to as the project. The proposed 200 MW AC solar facility would occupy approximately 2,000 acres of the roughly 3,300-acre Project Study Area which is located entirely in Moore County, Tennessee. The project site is bisected by State Route 55 and its eastern boundary borders the western city limits of Tullahoma, Tennessee. The project site is mostly forested with areas of wetlands, croplands, and early successional fields. A TVA 161-kilovolt transmission line runs north-south through the site. A map showing the project site is available at www.tva.gov/nepa.

Preliminary Proposed Action and Alternatives

In addition to a No Action Alternative, TVA will evaluate the action alternative of purchasing power from the proposed Moore County Solar Project. In evaluating alternatives, TVA considered other solar proposals, prior to selecting the Moore County site. Part of the screening process included a review of transmission options, including key connection points to TVA's transmission system. The Moore County site stood out as a viable option for connectivity. For the proposed site, the solar developer plans to consider the establishment of a reduced footprint so that impacts to cultural and/or biological resources could be avoided. The EIS or EA will also evaluate ways to mitigate impacts that cannot be avoided. The description and analysis of these alternatives in the EIS or EA will inform decision makers, other agencies, and the public about the potential for environmental impacts associated with the proposed solar facility. TVA solicits comments on whether there are other alternatives that should be assessed in the EIS or EA.

Brief Summary of Expected Impacts

Public scoping is integral to the process for implementing NEPA and ensures that (1) issues are identified early and properly studied, (2) issues of little significance do not consume substantial time and effort, and (3) the analysis of identified issues is thorough and balanced. This EA or EIS will identify the purpose and need of the project and will contain descriptions of the existing environmental and socioeconomic resources within the area that could be affected by the proposed solar facility, including the documented historical, cultural, and environmental resources. Evaluation of potential environmental impacts to these resources will include, but not be limited to, air quality and greenhouse gas emissions, surface water, groundwater, wetlands, floodplains, vegetation, wildlife, threatened and endangered species, land use, natural areas and parks and recreation, geology, soils, prime farmland, visual resources, noise, cultural resources, socioeconomics and environmental justice, solid and hazardous waste, public and occupational health and safety, utilities, and transportation.

Based on a preliminary evaluation of these resources, TVA expects potential impacts to vegetation and wildlife due to the conversion of coniferous and hardwood forests of various ages to early maintained grass-dominated fields. Impacts to water resources would likely be minor with the use of best management practices and avoidance of siting project components in or near streams, wetlands, and riparian areas to the extent feasible. Land use would be impacted by the conversion of the undeveloped site to industrial use and the elimination of current farming and timber operations. This would also result in visual impacts. The current recreational uses of the site, primarily hunting, would also be eliminated. Historic properties could be impacted but would be avoided to the extent feasible or mitigated in compliance with applicable regulations. Nearly half of the site was once used as an auxiliary training area for the U.S. Army during World War II. The site was deactivated in 1946 and the U.S. Army Corps of Engineers has conducted numerous inspections and remediation efforts on the former Motlow Range to ensure public and occupational health and safety. Beneficial impacts are expected by facilitating the development of renewable energy and thereby increasing local job opportunities, as well as improving regional air quality and reducing carbon emissions. The EIS or EA will analyze measures that would avoid, minimize, or mitigate environmental effects. The final range of issues to be addressed in the environmental review will be determined, in part, from scoping comments received.

Request for Identification of Potential Alternatives, Information, and Analyses Relevant to the Proposed Action

TVA requests assistance with identifying any new potential alternatives to the proposed action to be considered. TVA also requests assistance with identifying any new potential impacts of the proposed action, identifying the activity and the potential impact that should be analyzed. Information interested parties possess which would assist in the analysis of resources issues is also appreciated. TVA is particularly interested in public input on other reasonable alternatives that should be considered in the EIS or EA. The preliminary identification of reasonable alternatives, information, and analyses relevant to the proposed action in this notice is not meant to be exhaustive or final.

Public Participation

The public is invited to submit comments on the scope of this EA or EIS no later than the date identified in the DATES section of this notice. Federal, state, and local agencies and Native American Tribes are also invited to provide comments. Information about this project is available on the TVA web page at www.tva.gov/nepa, including a link to an online public comment page. Any comments received, including names and addresses, will become part of the administrative record and will be available for public inspection. After consideration of comments received during the scoping period, TVA will develop and distribute a scoping document that will summarize public and agency comments that were received and identify the schedule for completing the EIS or EA process. Following analysis of the issues, TVA will prepare the draft EIS or EA for public review and comment; expected to be released late 2021 or early 2022. TVA anticipates the final EIS or EA in summer of 2022. In finalizing the EIS or EA and in making its final decision, TVA will consider the comments that it receives on the draft.

Rebecca Tolene,
Vice President, Environment.

[FR Doc. 2021-09223 Filed 4-30-21; 8:45 am]

BILLING CODE 8120-08-P